DEPARTMENT OF COMMERCE

National Oceanic and Atmospheric Administration

[RTID 0648-XA692]

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a week-long work session that is open to the public.

DATES: The GMT meeting will be held Monday, January 11 through Friday, January 15, 2021, from 9 a.m., Pacific Standard Time, until business for each day has been completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Todd Phillips, Pacific Council, (503) 820-2426.

SUPPLEMENTARY INFORMATION: The primary purpose of this week-long work session is for the GMT to prepare for 2021 Pacific Council meetings. Specific agenda items will include: a detailed review of 2021/2022 harvest specifications and management measure process, planning for the 2023/2024 harvest specifications and management measure process, stock assessment and review planning, and GMT chair/vice chair elections. The GMT may also address groundfish management actions the Pacific Council has indicated on their year-at-a-glance calendar, such as: mothership utilization, non-trawl rockfish conservation area management changes, and sablefish gear switching. A detailed agenda will be available on the Pacific Council's website prior to the meeting.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for auxiliary aids should be directed to Mr. Kris Kleinschmidt at (503) 820-2412 at least 10 business days prior to the meeting date.

Authority: 16 U.S.C. 1801 et seq.

Dated: December 16, 2020.
Rey Israel Marquez,
Acting Deputy Director, Office of Sustainable Fisheries, National Marine Fisheries Service.

[FR Doc. 2020-28073 Filed 12-18-20; 8:45 am]

BILLING CODE 3510-22-P